DEPARTMENT OF TRANSPORTATION

Maritime Administration

[USCG-2006-26009]

Calypso LNG LLC, Calypso Liquefied Natural Gas Deepwater Port License Application; Preparation of Environmental Impact Statement

AGENCY: Maritime Administration, DOT.

ACTION: Notice of availability; notice of public meeting; request for comments.

SUMMARY: The Maritime Administration (MARAD) and the Coast Guard announce the availability of the Draft Environmental Impact Statement (DEIS) for the Calypso LNG LLC, Calypso Natural Gas Deepwater Port (Calypso) license application. The application describes a project that would be located in the Federal waters of the Outer Continental Shelf in the OCS NG 17-06 (Bahamas) lease area, approximately 8 to 10 miles off the east coast of Florida to the northeast of Port Everglades, in a water depth of 800 to 950 feet. The Coast Guard and MARAD request public comments on the DEIS. Publication of this notice begins a 45-day comment period and provides information on how to participate in the process.

DATES: The public meeting in Fort Lauderdale, FL will be held on November 28, 2007. The public meeting will be held from 6:30 p.m. to 8:30 p.m. and will be preceded by an informational open house from 5 p.m. to 6 p.m. The public meeting may end earlier or later than the stated time, depending on the number of commenters wishing to speak. Material submitted in response to the request for comments on the DEIS must reach the Federal Docket Management Facility by December 17, 2007.

ADDRESSES: The open house and public meeting will be held at: Courtyard by Marriott, North Fort Lauderdale, 2440 W. Cypress Creek Road, Fort Lauderdale, Florida 33309; telephone: 954-772-7770.

The DEIS, the application, and associated documentation are available for viewing at the Federal Docket Management System Web site: http://regulations.gov under docket number 26009. The Federal Docket Management System replaces the DOT Docket Management System. Migration to the new system began on October 1, 2007. The DEIS is also available at public libraries in Fort Lauderdale area (Broward County Library which is a federal depository library and Riverland Library in Fort Lauderdale; Dania Beach Library—Paul DeMaio Branch in Dania Beach; Davie/Cooper City Library in Davie; Helen B. Hoffman Plantation Library and West Regional Library in Plantation; Hollywood Library in Hollywood, and Pembroke Pines Library in Pembroke Pines) and Florida State University Marine Laboratory in Sopchoppy, Florida.

Docket submissions for USCG-2006-26009 should be addressed to: Department of Transportation, Docket Management Facility, 1200 New Jersey Avenue, SE., West Building, Ground Floor, Room W12-140, Washington, DC 20590-0001.

The Federal Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://regulations.gov.

FOR FURTHER INFORMATION CONTACT: Mary K. Jager, U.S. Coast Guard, telephone: 202-372-1454, e-mail: Mary.K.Jager@uscg.mil. If you have questions on viewing the docket, call Renee V. Wright, Program Manager, Docket Operations, telephone: 202-493-0402, e-mail: renee.wright@dot.gov.

SUPPLEMENTARY INFORMATION:

Public Hearing and Open House

We invite you to learn about the proposed deepwater port at an informational open house, and to comment at a public meeting on the proposed action and the evaluation contained in the DEIS.

In order to allow everyone a chance to speak at the public meeting, we may limit speaker time, or extend the meeting hours, or both. You must identify yourself, and any organization you represent, by name. Your remarks will be recorded or transcribed for inclusion in the public docket.

Written material may be submitted at the public meeting, either in place of or in addition to speaking. Written material must include your name and address, and will be included in the public docket.

Public docket materials will be made available to the public on the Federal Docket Management System (FDMS). See “Request for Comments” for information about FDMS and your rights under the Privacy Act.

The public meeting location will be wheelchair-accessible. If you plan to attend the open house or public meeting, and need special assistance such as sign language interpretation or other reasonable accommodation, please notify the Coast Guard (see FOR FURTHER INFORMATION CONTACT) at least three (3) business days in advance. Include your contact information as well as information about your specific needs.

Request for Comments

We request public comments or other relevant information on the DEIS. The public hearing is not the only opportunity to comment. In addition to or in place of attending a meeting, comments may be submitted to the Federal Docket Management Facility during the public comment period (see DATES). We will consider all comments and material received during the comment period for the DEIS. We will announce the availability of the Final EIS (FEIS) and once again provide the opportunity to review and comment. To receive notice of the FEIS, contact representatives at the public meeting or the Coast Guard representative identified in FOR FURTHER INFORMATION CONTACT.

Submissions must include:

• Docket number USCG-2006-26009.

• Your name and address.

Submit comments or material using only one of the following methods:

• Electronic submission to FDMS, http://regulations.gov.

• Fax, mail, or hand delivery to the Docket Management Facility (see ADDRESSES). Faxed or hand delivered submissions must be unbound, no larger than 8½ by 11 inches, and suitable for copying and electronic scanning. Mailed submissions requiring confirmation of receipt should include a stamped, self-addressed postcard or envelope.

Regardless of the method used for submitting comments or material, all submissions will be posted, without change, to the FDMS Web site (http://regulations.gov), and will include any personal information provided. Therefore, submitting this information makes it public. Please read the Privacy Act notice that is available on the FDMS Web site, or the Department of Transportation Privacy Act Statement that appeared in the Federal Register on April 11, 2000 (65 FR 19477).

Docket submissions may be viewed at the Federal Docket Management Facility (see ADDRESSES), or electronically on the FDMS Web site.

Background

Information about deepwater ports, the statutes, and regulations governing their licensing, and the receipt of the current application for a liquefied natural gas (LNG) deepwater port appears in Volume 71 FR 65031, Monday, November 6, 2006. The Notice of Intent to Prepare an EIS for the proposed action was published in the Federal Register in Volume 71 FR 67422, Tuesday, November 21, 2006. The DEIS, application materials and associated comments are available on the docket. Information from the “Summary of the Application” from previous Federal Register notices is included below for your convenience.

Proposed Action and Alternatives

The proposed action requiring environmental review is the Federal licensing action of the proposed deepwater port described in “Summary of the Application” below. The alternatives to licensing decision on the proposed port are: (i) Licensing as proposed (ii) licensing with conditions (including conditions designed to mitigate environmental, safety and security impacts), and (iii) denying the license, which for purposes of environmental review is the “no-action” alternative. Alternates examined under NEPA are more fully discussed in the DEIS. The Coast Guard and MARAD are the lead Federal agencies for the preparation of the EIS. Address any questions about the proposed action or the DEIS to the Coast Guard project manager identified in FOR FURTHER INFORMATION CONTACT.

Summary of the Application

Calypso LNG LLC, proposes to own, construct, and operate a deepwater port, named Calypso, in the Federal waters of the Outer Continental Shelf in the OCS NG 17-06 (Bahamas) lease area, approximately 8 to 10 miles off the east coast of Florida, to the northeast of Port Everglades, in a water depth of approximately 800 to 950 feet. Calypso would consist of a permanently moored unloading buoy system with two (2) submersible buoys separated by a distance of approximately three (3) miles. Each unloading buoy would be permanently secured to eight (8) or nine (9) mooring lines, consisting of wire rope, chain, and buoyancy elements, each attached to anchor points on the sea bed. Anchor points would consist of a combination of suction piles and gravity anchors.

The buoys would be designed to moor and unload (i) transport and regasification vessels (TRVs) and (ii) a storage and regasification ship (SRS). TRVs would be drawn from the existing and future global fleet as compatible with the unloading buoy system. A TRV would moor at the east buoy for four (4) to seven (7) days. When empty it would disconnect from the buoy and leave the port, followed by another full TRV that would arrive and connect to the buoy. The SRS would be a specialized, purpose built LNG carrier designed to accept LNG from conventional LNG carriers from the existing and future global fleet. The SRS would normally remain attached to its mooring buoy. To sustain continuous vaporization, the SRS' cargo tanks would be refilled approximately every two (2) to four (4) days by LNG carriers. The SRS would detach from the buoy if threatened by a severe storm, such as a hurricane, and move under its own power to safety; then return and reconnect to the buoy and continue operations once the storm danger passed.

Both vessels would be equipped to vaporize LNG cargo to natural gas through an onboard closed loop shell-and-tube vaporization system, and to odorize and meter gas for send-out by means of the unloading buoy to conventional subsea pipelines. The mooring buoys would be connected through the hull of the vessels to specially designed turrets that would enable the vessel to weathervane or rotate in response to prevailing winds, waves, and the current directions. When the vessels are not present the buoys would be submerged approximately 100 feet below the surface.

The unloading buoys would connect through flexible risers and two (2) approximately 2.5 mile long 30-inch flow lines located on the seabed that would connect directly to the Calypso pipeline, a Federal Energy Regulatory Commission (FERC) permitted pipeline, yet to be constructed which would then connect to existing onshore pipeline system.

The Calypso would be capable of delivering natural gas in a continuous flow by having at least one TRV or the SRS regasifying at all times. The system would be designed so that a TRV and the SRS can regasify simultaneously for concurrent unloading of natural gas. Calypso would have an average throughput capacity of approximately 1.1 billion standard cubic feet per day (bcsfd) and a peak delivery capacity of 1.9 bcsfd.

Existing onshore delivery systems would be utilized and no new construction of onshore pipelines or LNG storage facilities are included as part of the proposed deepwater port. Existing shore based infrastructure will be used to facilitate movement of personnel, equipment, supplies, and disposable materials between the Terminal and shore.

Construction of the deepwater port would be expected to take three (3) years should a license be issued. The deepwater port, if licensed, would be designed, constructed and operated in accordance with applicable codes and standards and would have an expected operating life of approximately 25 years.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://regulations.gov.

(Authority: 49 CFR 1.66)

By Order of the Maritime Administrator.
Dated: October 29, 2007.
Murray A. Bloom,
Acting Secretary, Maritime Administration.

[FR Doc. E7-21602 Filed 11-1-07; 8:45 am]

BILLING CODE 4910-81-P